DEPARTMENT OF HOMELAND SECURITY

Coast Guard

DEPARTMENT OF TRANSPORTATION

Maritime Administration

[USCG-2004-17659]

Compass Port LLC Liquefied Natural Gas Deepwater Port License Application; Correction

AGENCY: Coast Guard, DHS, and Maritime Administration, DOT.

ACTION: Notice of application; correction.

SUMMARY: The Coast Guard and the Maritime Administration published a notice of application in the Federal Register of May 20, 2004, for the Compass Port LLC Liquefied Natural Gas Deepwater Port. The notice designated Alabama as an adjacent coastal state but it did not include the designation of Mississippi as a second adjacent coastal state.

FOR FURTHER INFORMATION CONTACT: Lieutenant Commander Kevin Tone, Deepwater Ports Standards Division (G-MSO-5) at (202) 267-0226, or Mr. Keith Lesnick, Maritime Administration (MARAD) at (202) 366-1624.

Correction

In the Federal Register of May 20, 2004, in FR Doc. 04-11391, on page 29143, in the first column, under the caption “Application procedure,” correct the fifth sentence to read: “Pursuant to 33 U.S.C. 1508, we designate Alabama and Mississippi as adjacent coastal states for this application.” This correction is based on the result of a reevaluation of a portion of the proposed pipeline near the Mississippi border with Alabama. Further investigation shows that the pipeline lies within 15 miles of the border, which as defined under the Deepwater Port Act of 1974, as amended, qualifies Mississippi as an adjacent coastal state.

Dated: June 15, 2004.
Joseph J. Angelo,
Director of Standards, Marine Safety, Security and Environmental Protection, U.S. Coast Guard.
H. Keith Lesnick,
Senior Transportation, Specialist, Deepwater Ports Program Manager, U.S. Maritime Administration.

[FR Doc. 04-14380 Filed 6-23-04; 8:45 am]

BILLING CODE 4910-15-P